COMMODITY FUTURES TRADING COMMISSION

Sunshine Act Meetings

TIME AND DATE: 9:30 a.m. EDT, Monday, April 29, 2024.

PLACE: CFTC Headquarters Conference Center, Three Lafayette Centre, 1155 21st Street NW, Washington, DC.

STATUS: Open.

MATTERS TO BE CONSIDERED: The Commodity Futures Trading Commission (“Commission” or “CFTC”) will hold this meeting to consider the following matters:

• Final Rule: Capital and Financial Reporting Requirements for Swap Dealers and Major Swap Participants; and

• Final Rule: Adopting Amendments to the Large Trader Reporting Rules for Futures and Options.

The agenda for this meeting will be available to the public and posted on the Commission's website at https://www.cftc.gov. Members of the public are free to attend the meeting in person, or have the option to listen by phone or view a live stream. Instructions for listening to the meeting by phone and connecting to the live video stream will be posted on the Commission's website.

In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: April 22, 2024.
Christopher Kirkpatrick,
Secretary of the Commission.

[FR Doc. 2024-08958 Filed 4-23-24; 11:15 am]

BILLING CODE 6351-01-P